DEPARTMENT OF COMMERCE

National Institute of Standards and Technology

Request for Nominations for Members To Serve on National Institute of Standards and Technology Federal Advisory Committees

Correction

In notice document 2016-31835, appearing on pages 85 through 92 in the issue of Tuesday, January 3, 2017, make the following corrections:

1. On page 86, in the first column, on the fifth line, following the DATES paragraph, insert the following:

ADDRESSES: See below.

SUPPLEMENTARY INFORMATION:

Board of Overseers of the Malcolm Baldrige National Quality Award

2. On the same page, in the same column, beginning on the twenty-seventh line, following the FOR FURTHER INFORMATION CONTACT paragraph, remove the following:

SUPPLEMENTARY INFORMATION:

Board of Overseers of the Malcolm Baldrige National Quality Award

[FR Doc. C1-2016-31835 Filed 1-17-17; 8:45 am]

BILLING CODE 1301-00-D